DEPARTMENT OF DEFENSE

Office of the Secretary; Domestic Advisory Panel (DAP) on Early Intervention and Education for Infants, Toddlers, Preschool Children, and Children With Disabilities

AGENCY: Department of Defense Domestic Dependent Elementary and Secondary Schools (DDESS), DOE.

ACTION: Notice.

SUMMARY: Pursuant to Public Law 92-463, as amended (5 U.S. app. II), the Federal Advisory Committee Act, notice is hereby given that a meeting of the Domestic Advisory Panel (DAP) on Early Intervention and Education for Infants, Toddlers, Preschool Children, and Children with Disabilities is scheduled to be held from 8 a.m. to 3 p.m. on May 9-10, 2000. The meeting is open to the public and will be held at the Fort Benning Dependent Schools, Building 2670, 210 Custer Road, Fort Benning, Georgia 31905. The purpose of the meeting is to: (1) Review the response to the panel's recommendations from its December 1999 meeting; (2) review and comment on data and information provided by the Department of Defense Domestic Dependent Elementary and Secondary Schools; and (3) establish subcommittees as necessary. Persons desiring to attend the meeting or desiring to make oral presentations or submit written statements for consideration by the panel must contact Mr. David V. Burket at (703) 696-4354, extension 1455.

Dated: April 11, 2000.
L.M. Bynum,
Alternate OSD Federal Register Liaison Officer, DoD.

[FR Doc. 00-9416 Filed 4-14-00; 8:45 am]

BILLING CODE 5001-10-M